NATIONAL AERONAUTICS AND SPACE ADMINISTRATION

[Notice 12-012]

NASA Advisory Council; Human Exploration and Operations Committee; Meeting

AGENCY: National Aeronautics and Space Administration.

ACTION: Notice of meeting.

SUMMARY: In accordance with the Federal Advisory Committee Act, Public Law 92-463, as amended, the National Aeronautics and Space Administration announces a meeting of the Human Exploration and Operations Committee of the NASA Advisory Council.

DATES: Tuesday, March 6, 2012, 8:30 a.m.-3:30 p.m. and Wednesday, March 7, 2012; 8:30 a.m.-2:30 p.m., local time.

ADDRESSES: National Aeronautics and Space Administration, 300 E Street SW., Glennan Conference Room 1Q39, Washington, DC 20546-0001.

FOR FURTHER INFORMATION CONTACT: Dr. Bette Siegel, Human Exploration and Operations Mission Directorate, National Aeronautics and Space Administration Headquarters, 300 E Street SW., Washington, DC 20546, 202-358-2245; bette.siegel@nasa.gov.

SUPPLEMENTARY INFORMATION: The agenda topics for the meeting will include:

• Status of the Human Exploration and Operations Mission Directorate

• Capability Driven Roadmap

• Exploration Planning, Partnerships, and Prioritization Summary

• Status of Space Launch System, Multi-Purpose Crew Vehicle, Ground System Development and Operations

• Exploration Technology Development

• International Space Station and Robotics

• Status of Commercial Crew/Cargo

The meeting will be open to the public up to the seating capacity of the room. This meeting is also available telephonically and by WebEx. You must use a touchtone phone to participate in this meeting. Any interested person may dial access number, 866-692-4538 or 517-466-2084 and then enter the numeric participant passcode: 1799949 followed by the # sign. To join via WebEx the link is https://nasa.webex.com/, meeting number 991 630 498, and password NA$A0306*07. It is imperative that the meeting be held on this date to accommodate the scheduling priorities of the key participants. Attendees will be required to comply with NASA security procedures, including the presentation of a valid picture ID to Security before access to NASA Headquarters. Foreign nationals attending this meeting will be required to provide a copy of their passport and visa in addition to providing the following information no less than 15 working days (by February 13, 2012) prior to the meeting: Full name; gender; date/place of birth; citizenship; visa information (number, type, expiration date); passport information (number, country, expiration date); employer/affiliation information (name of institution, address, country, telephone); title/position of attendee; and home address to Dr. Bette Siegel via email at bette.siegel@nasa.gov or by telephone at (202) 358-2245. U.S. citizens and green card holders are requested to submit their name and affiliation 3 working days prior to the meeting to Dr. Bette Siegel.

Patricia D. Rausch,
Advisory Committee Management Officer, National Aeronautics and Space Administration.

[FR Doc. 2012-3026 Filed 2-8-12; 8:45 am]

BILLING CODE 7510-13-P